DEPARTMENT OF THE INTERIOR

Fish and Wildlife Service

Proposal To Register an Operation Breeding an Appendix-I Species in Captivity for Commercial Purposes according to the Convention on International Trade in Endangered Species of Wild Fauna and Flora

AGENCY: Fish and Wildlife Service, Interior.

ACTION: Notice.

SUMMARY: We, the U.S. Fish and Wildlife Service, announce that we intend to submit to the Secretariat of the Convention on International Trade in Endangered Species of Wild Fauna and Flora (CITES) a proposal to register Rapid Creek Ranch, a breeding facility for gyrfalcons (Falco rusticolus) owned and operated by Robert B. Berry, Sheridan, Wyoming, as a commercial breeding operation for an Appendix-I species. The registration of this facility will allow specimens to be designated as bred in captivity for commercial purposes and deemed to be specimens of species included in Appendix II, as provided for in Article VII, paragraph 4, of CITES. Public comments are solicited.

DATES: Comments will be accepted until May 17, 2000.

ADDRESSES: Please send correspondence concerning this notice to the Office of Scientific Authority, U.S. Fish and Wildlife Service, Mail stop ARLSQ 750, 4401 N. Fairfax Drive, Arlington, Virginia 22203 (fax, 703-358-2276; E-mail, r9osa@fws.gov). Copies of the full text of the registration proposal are available from the Office of Scientific Authority and will be mailed upon request. Comments and other information received are available for public inspection by appointment from 8 a.m. to 4 p.m., Monday through Friday, at the Arlington, Virginia, address.

FOR FURTHER INFORMATION CONTACT: Mr. Robert R. Gabel at the address given above (telephone: 703-358-1708).

SUPPLEMENTARY INFORMATION:

Background

The Convention on International Trade in Endangered Species of Wild Fauna and Flora, TIAS 8249, hereinafter referred to as CITES, is an international treaty designed to regulate international trade in animal and plant species that are or may become threatened with extinction. Authority for implementing CITES has been delegated to the Secretary of Interior through the Endangered Species Act of 1973 as amended (16 U.S.C. 1531 et seq.). Species are listed in Appendix I, II, or III of CITES, depending on the degree of threat and level of control needed. Species listed in Appendix I receive the highest level of protection and require both an import permit from the country of import and an export permit from the country of export, and imports may not be for primarily commercial purposes. However, Article VII, paragraph 4, of CITES provides that specimens of animal species included in Appendix I bred in captivity for commercial purposes shall be deemed to be specimens of species included in Appendix II. Appendix-II species require an export permit only (no import permit) and may be imported for commercial or non-commercial purposes.

Through resolutions adopted at meetings of the Conference of the Parties to CITES, the Parties have defined criteria for registering breeding operations with the CITES Secretariat, whereby specimens of Appendix-I species from those operations would qualify as bred in captivity for commercial purposes. Resolution Conf. 10.16 adopted at the Tenth Meeting of the Conference of the Parties to CITES requires that parental breeding stock at such operations must: (a) Be established in according to the provisions of CITES and relevant national laws and in a manner not detrimental to the survival of the species in the wild; (b) be maintained without introduction of specimens from the wild, except for occasional augmentation to prevent or alleviate deleterious inbreeding, and for other limited purposes; and (c) have produced offspring of second (F2) or subsequent generations (F3, F4, etc.) in a controlled environment, belong to a species included in a list (established by the CITES Standing Committee) of species commonly bred to the second or subsequent generations in captivity, or be managed in a manner that has been demonstrated to be capable of reliably producing second-generation offspring in a controlled environment. Resolution Conf. 8.15 provides guidelines for registering and monitoring operations breeding Appendix-I animal species for commercial purposes, and specifies the documentation required to establish that the operation meets the criteria of Resolution Conf. 10.16.

To register a captive-breeding operation, the Management Authority of the country in which the operation is located must approve the operation, in consultation with that country's Scientific Authority. The sponsoring Management Authority must then submit a proposal to register the operation to the CITES Secretariat, which will follow the process presented in Resolution Conf. 8.15.

After a review of relevant information, including breeding records and other documentation, we have prepared for submission to the CITES Secretariat the following proposal: the registration of Rapid Creek Ranch, owned and operated by Robert B. Berry, Sheridan, Wyoming, as a commercial captive-breeding operation for gyrfalcons (Falco rusticolus), an Appendix-I species. This is only the second commercial captive-breeding operation proposed for registration within the United States for any species, it is not the first operation registered with the CITES Secretariat for this species; 11 operations are already registered with the Secretariat for gyrfalcons, one of which is in the United States. The Rapid Creek Ranch operation was established in 1978 and first began breeding this species in 1980, with 150 gyrfalcons produced from 1982 to 1999. Over 75 percent of these offspring have been second-generation captive-bred offspring. We are satisfied that all breeding stock has been legally acquired and maintained under appropriate permits. Mr. Berry has provided detailed information on current holdings, husbandry practices, enclosures, production at his operation, and breeding strategies for genetic management of his flocks so as to minimize deleterious inbreeding.

Required Determination

In March 1998, we prepared an Environmental Assessment (EA) as required by the National Environmental Policy Act (NEPA) for this notice and concluded in a Finding of No Significant Impact (FONSI) based on a review and evaluation of the information contained within the EA that there would be no significant impact on the human environment as a result of the registration of operations breeding Appendix-I species in captivity for commercial purposes, and that the preparation of an environmental impact statement on this action is not required by Section 102(2) of NEPA or its implementing regulations. The EA and FONSI for this action are on file at our Office of Scientific Authority in Arlington, Virginia, and a copy may be obtained by contacting the individual identified under the section entitled, FOR FURTHER INFORMATION.

Author

This notice was prepared by Mr. Robert R. Gabel, Chief, Branch of Consultation and Monitoring, Office of Scientific Authority, U.S. Fish and Wildlife Service (703/358-1708).

Dated: April 10, 2000.
Kristen Nelson,
Acting Chief, Office of Management Authority.

[FR Doc. 00-9526 Filed 4-14-00; 8:45 am]

BILLING CODE 4310-55-P